DEPARTMENT OF LABOR

Office of the Secretary

Job Corps: Final Finding of No Significant Impact (FONSI) for the Proposed Job Corps Center To Be Located at 4000 Airport Road Approximately Two Miles Northwest of Riverton, WY

AGENCY: Office of the Secretary (OSEC), Department of Labor.

ACTION: Final Finding of No Significant Impact (FONSI) for the proposed Job Corps Center to be located at 4000 Airport Road approximately two miles northwest of Riverton, Wyoming.

SUMMARY: Pursuant to the Council on Environmental Quality Regulations (40 CFR part 1500-08) implementing procedural provisions of the National Environmental Policy Act (NEPA), the Department of Labor, Office of the Secretary (OSEC), in accordance with 29 CFR 11.11(d), gives final notice of the proposed construction of a new Job Corps Center located at 4000 Airport Road approximately two miles northwest of Riverton, Wyoming, and that this construction will not have a significant adverse impact on the environment. In accordance with 29 CFR 11.11(d) and 40 CFR 1501.4(e)(2), a preliminary FONSI for the new Job Corps Center was published in the December 12, 2007 Federal Register (72 FR Page 70615-70616). No comments were received that related to the environmental findings of the preliminary FONSI. The Job Corps has reviewed the conclusion of the environmental assessment (EA), and agrees with the finding of no significant impact. This notice serves as the Final Finding of No Significant Impact for the new Job Corps Center located at 4000 Airport Road approximately two miles northwest of Riverton, Wyoming. The preliminary FONSI and the EA are adopted in final with no change.

DATES: Effective Date: These findings are effective as of March 28, 2008.

FOR FURTHER INFORMATION CONTACT: Edward C. Campbell, Realty Officer, Department of Labor, U.S. Department of Labor, 200 Constitution Avenue, NW., Room N-4460, Washington, DC 20210, (202) 693-6653 (this is not a toll-free number).

Dated: April 3, 3008.
Esther R. Johnson,
National Director of Job Corps.

[FR Doc. E8-7567 Filed 4-9-08; 8:45 am]

BILLING CODE 4510-23-P